NUCLEAR REGULATORY COMMISSION

[Docket No. 050-00400]

License No. NPF-63; Carolina Power and Light Company; Notice of Issuance of Director's Decision Under 10 CFR 2.206

Notice is hereby given that the Director, Office of Nuclear Material Safety and Safeguards, U.S. Nuclear Regulatory Commission (NRC), has issued a Director's Decision with regard to a Petition dated November 5, 2001, filed by Mr. Jim Warren from NC WARN, hereinafter referred to as the “Petitioner.” The Petition was supplemented on February 12, 2002, with another letter on the same topic. The Petition concerns the rail transport of spent nuclear fuel by Carolina Power and Light Company (CP&L).

The Petitioner requested that NRC take immediate action to halt the rail shipments of spent nuclear fuel by CP&L due to the terrorist attacks on September 11, 2001, and the continuing threat of terrorism.

As the basis for the request, the Petitioner raised concerns stemming from recent terrorist attacks, and the fact the Petitioner believes the trains transporting the spent nuclear fuel are slow-moving targets. The Petitioner considers such transport to be potentially unsafe for the citizens in his state and especially for those along the transport route.

On January 16, 2002, the NRC Petition was reviewed by a Petition Review Board (PRB). During the review, the PRB decided not to grant the part of the Petition that requested immediate halting of the rail shipments of spent nuclear fuel. Additionally, the letter dated February 12, 2002, supplementing the initial position taken by Mr. Warren and further requesting that NRC halt the rail shipments of spent nuclear fuel, did not change the decision of the PRB.

The NRC sent a copy of the proposed Director's Decision to the Petitioner and to CP&L for comment on August 29, 2002. The Petitioner responded with comments on September 27, 2002, and the licensee responded on September 24, 2002. The comments and the NRC staff's response to those comments are included in the Director's Decision.

The Director of the Office of Nuclear Material Safety and Safeguards has determined that the requests to immediately halt rail shipments of spent nuclear fuel shipments by CP&L be denied. The reasons for this decision are explained in the Director's Decision pursuant to 10 CFR 2.206 [DD-02-05], the complete text of which is available for public inspection at the Commission's Public Document Room, located at One White Flint North, 11555 Rockville Pike (first floor), Rockville, Maryland, and via the NRC's Web site (http://www.nrc.gov) on the World Wide Web, under the “Public Involvement” icon.

NRC staff has determined that the established system of existing regulations for spent nuclear fuel transport, coupled with the additional security measures from the recently issued transportation Orders, adequately protect the transportation of spent nuclear fuel. Thus, the Petition sent by Mr. Warren of NC WARN to halt CP&L rail shipments of spent nuclear fuel has been denied.

A copy of the Director's Decision will be filed with the Secretary of the Commission for the Commission's review in accordance with 10 CFR 2.206 of the Commission's regulations. As provided for by this regulation, the Director's Decision will constitute the final action of the Commission 25 days after the date of the Decision, unless the Commission, on its own motion, institutes a review of the Director's Decision in that time.

Dated at Rockville, Maryland, this 12th day of November, 2002.
For the Nuclear Regulatory Commission.
Martin J. Virgilio,
Director, Office of Nuclear Material Safety and Safeguards.

[FR Doc. 02-29210 Filed 11-15-02; 8:45 am]

BILLING CODE 7590-01-P